DEPARTMENT OF VETERANS AFFAIRS

[OMB Control No. 2900-0752]

Agency Information Collection Activity: uSPEQ® Consumer Experience Survey (Rehabilitation)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. DATES: Written comments and recommendations on the proposed collection of information should be received on or before August 30, 2021.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0752” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0752” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: uSPEQ® Consumer Experience Survey (Rehabilitation), VA Form 10-0467.

OMB Control Number: 2900-0752.

Type of Review: Reinstatement of a previously approved collection.

Abstract: The Department of Veterans Affairs (VA) rehabilitation programs are committed to adopting the uSPEQ® Consumer Experience 2.0 Universal Questionnaire to assess outcome measures related to patient perceptions and perspectives regarding rehabilitation experiences. The uSPEQ® (pronounced you speak) is a confidential, anonymous, and scientifically tested consumer reporting system that gives persons served a voice in their services. A majority of VA rehabilitation program offices serving special emphasis populations have indicated an interest in using the uSPEQ® document as a survey of rehabilitation consumer experiences in their local, regional, and national programs. The uSPEQ survey will be used to gather input from veterans regarding their satisfaction with VA's rehabilitation programs. VA will use the data collected to continue quality improvement, informed programmatic development, and to identify rehabilitation program strengths and weaknesses.

Affected Public: Individuals and households.

Estimated Annual Burden: 32,000 hours.

Estimated Average Burden per Respondent: 5 minutes.

Frequency of Response: Once annually.

Estimated Number of Respondents: 384,000.

By direction of the Secretary.
Dorothy Glasgow,
VA PRA Clearance Officer, (Alternate), Office of Enterprise and Integration/Data Governance Analytics, Department of Veterans Affairs.

[FR Doc. 2021-14001 Filed 6-29-21; 8:45 am]

BILLING CODE 8320-01-P